INTERNATIONAL TRADE COMMISSION

[Investigation No. 337-TA-993]

Certain Overflow and Drain Assemblies for Bathtubs and Components Thereof; Notice of the Commission's Determination Not To Review an Initial Determination Terminating Better Enterprise Co. Ltd. From the Investigation; Issuance of Consent Order; Termination of the Investigation

AGENCY: U.S. International Trade Commission.

ACTION: Notice.

SUMMARY: Notice is hereby given that the U.S. International Trade Commission has determined not to review the presiding administrative law judge's (“ALJ”) initial determination (“ID”) (Order No. 6) terminating Better Enterprise Co. Ltd. (“BEC”) based on a consent order stipulation and proposed consent order. The Commission terminates the investigation.

FOR FURTHER INFORMATION CONTACT: Amanda Pitcher Fisherow, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 9, 2016, based on a complaint and supplements filed on behalf of WCM Industries, Inc., (“complainant”) of Colorado Springs, Colorado. 81 FR 28104 (May 9, 2016). The complaint as supplemented alleges violations of Section 337 of the Tariff Act of 1930, as amended, 19 U.S.C. 1337, in the sale for importation, importation, or sale within the United States after importation of certain overflow and drain assemblies for bathtubs and components thereof by reason of infringement of certain claims of U.S. Patent No. 8,302,220; U.S. Patent No. 8,321,970; U.S. Patent No. 8,584,272; and U.S. Patent No. 9,200,436. The complaint further alleges that an industry in the United States exists as required by subsection (a)(2) of section 337. The Notice of Investigation names Bridging Partners Corporation (“BPC”) of Taipei, Taiwan; BEC of Taipei, Taiwan; and Everflow Industrial Supply Corporation (“EIS”) of Changhua, Taiwan as respondents. BPC and EIS were previously terminated from the investigation based on consent order stipulations and consent orders. Order No. 3 (unreviewed).

On July 1, 2016, complainant filed a motion to terminate the investigation as to BEC based on a consent order stipulation and proposed consent order.

On July 11, 2016, the ALJ granted the motion. Order No. 6. The ALJ found that the consent order stipulation and the proposed consent order comply with the Commission's rules. The ALJ also found that there is no evidence that termination of the investigation as to BEC would be contrary to the public interest. Id. at 4. No petitions for review were filed.

The Commission has determined not to review the subject ID and has issued a consent order. Since BEC is the last remaining respondent in the investigation, this action terminates the investigation.

The authority for the Commission's determination is contained in section 337 of the Tariff Act of 1930, as amended (19 U.S.C. 1337), and in part 210 of the Commission's Rules of Practice and Procedure (19 CFR part 210).

By order of the Commission.
William R. Bishop,
Supervisory Hearings and Information Officer.

[FR Doc. 2016-19065 Filed 8-10-16; 8:45 am]

BILLING CODE 7020-02-P